DEPARTMENT OF HEALTH AND HUMAN SERVICES

Administration for Children and Families

Proposed Information Collection Activity; Comment Request

Title: Mother and Infant Home Visiting Program Evaluation: Baseline survey data collection.

OMB No.: 0970-0402.

Description: The Administration for Children and Families (ACF) and Health Resources and Services Administration (HRSA) within the U.S. Department of Health and Human Services (HHS) have launched a national evaluation called the Mother and Infant Home Visiting Program Evaluation (MIHOPE, formerly called the Maternal, Infant, and Early Childhood Home Visiting Evaluation). This evaluation, mandated by the Affordable Care Act, will inform the federal government about the effectiveness of the newly established MIECHV program in its first few years of operation, and provide information to help states develop and strengthen home visiting programs in the future. By systematically estimating the effects of home visiting programs across a wide range of outcomes and studying the variation in how programs are implemented, MIHOPE will provide valuable information on the effects of these programs on parents and children. This includes investigating the effects of home visiting on maternal and child well-being, how those effects vary for different home visiting approaches, and how variations in program design and implementation influence program fidelity and impacts.

MIHOPE includes two phases: Phase 1 includes site recruitment, baseline data collection for families, and collection of data on program implementation; Phase 2 includes follow up data collection for families. The purpose of the current document is to request approval of data collection efforts needed for Phase 1 of MIHOPE and to request a waiver for subsequent 60 day notices for Phase 2. Phase I will include data collected on state plans for MIECHV funds, data on families when they enter the study, and data on program implementation. For site recruitment, information will come from discussions with MIECHV state administrators, and program managers of local MIECHV programs. Activities related to site recruitment have begun under emergency clearance authorization (0970-0402). For baseline data on families and program implementation, those data collection efforts include the following: (1) Surveys of parents when they enter the study, (2) annual semi-structured interviews with state MIECHV administrators, (3) annual surveys of home visiting program site managers, (4) annual surveys of home visiting program site supervisors, (5) annual surveys of program site home visitors, (6) annual surveys of administrators of community resources that provide services relevant to home visited families; (7) logs maintained by supervisors on supervisory activities, (8) logs maintained by home visitors on service delivery, and (9) qualitative interviews and focus groups with staff at participating program sites in each state. These data will be used to measure characteristics of participating families at the time of enrollment into the study; characteristics of program staff; factors for service delivery; and program implementation, fidelity, and costs. Phase 2 will collect information on family outcomes around the time of the child's first birthday. This notice does not seek comment on these follow-up data collection activities. The baseline family survey will be used to collect information on background and experiences when families enter the study. The remaining data collection will be used to collect information on organizational and individual-level factors that influence how home visiting services are delivered.

Respondents: Enrolled parents; state MIECHV administrators; home visiting program managers, supervisors, and home visitors; and administrators of community resources.

Annual Burden Estimates
Instrument | Annual number of respondents | Number of resopnses per respondent | Average burden hours per respondent | Total annual burden hours
Telephone contact with state administrators | 49 | 1 | 1 | 49
First round visits with state administrators | 18 | 1 | 1.5 | 27
Second round visits with state administrators | 15 | 1 | 1.5 | 23
Visits and calls with local program directors | 120 | 1 | 3 | 360
Family baseline survey | 1700 | 1 | 1 | 1700
Baseline state administrator interview | 8 | 1 | 2 | 16
12-month state administrator interview | 8 | 1 | 2 | 16
Baseline survey of program managers, part 1 | 29 | 1 | 0.5 | 15
Baseline survey of program managers, part 2 | 29 | 1 | 1 | 29
Baseline survey of program managers, part 3 | 29 | 1 | 1 | 29
12-month survey of program managers | 29 | 1 | 2 | 58
Baseline supervisor survey | 33 | 1 | 1.25 | 42
12-month supervisor survey | 33 | 1 | 1.25 | 42
Baseline home visitor survey | 170 | 1 | 1.25 | 213
12-month home visitor survey | 170 | 1 | 1.25 | 213
Community service providers survey | 510 | 1 | 0.1 | 51
Other home visiting programs survey | 142 | 1 | 0.1 | 15
Supervisor logs | 33 | 60 | 0.2 | 396
Home visitor logs | 170 | 16 | 0.2 | 2040
Program manager group interview | 29 | 1 | 1.5 | 44
Supervisor group interview | 33 | 1 | 1.5 | 50
Home visitor group interview | 85 | 1 | 1.5 | 128
Home visitor individual interview | 85 | 1 | 1.5 | 128
Interview participant questionnaire | 232 | 1 | 0.05 | 12

Estimated Total Annual Burden Hours: 5,696.

Copies of the proposed collection may be obtained by writing to the Administration for Children and Families, Office of Planning, Research and Evaluation, 370 L'Enfant Promenade, SW., Washington, DC 20447, Attn: OPRE Reports Clearance Officer. All requests should be identified by the title of the information collection. Email address: OPREinfocollection@acf.hhs.gov.

OMB Comment:

OMB is required to make a decision concerning the collection of information between 30 and 60 days after publication of this document in the Federal Register. Therefore, a comment is best assured of having its full effect if OMB receives it within 30 days of publication. Written comments and recommendations for the proposed information collection should be sent directly to the following:

Office of Management and Budget, Paperwork Reduction Project, Email: OIRA_SUBMISSION@OMB.E0P.GOV, Attn: Desk Officer for the Administration for Children and Families.

Dated: March 19, 2012.
Steven M. Hanmer,
Reports Clearance Officer.

[FR Doc. 2012-6977 Filed 3-22-12; 8:45 am]

BILLING CODE 4184-22-M